DEPARTMENT OF LABOR

Employment and Training Administration

[TA-W-41,167 and NAFTA-05853]

Tri-Way Manufacturing, Inc., El Paso, TX; Notice of Negative Determination Regarding Application for Reconsideration

By application dated August 9, 2002, the Texas Rural Legal Aid, Inc., Displaced Worker Project, requested administrative reconsideration of the Department's negative determination regarding eligibility to apply for Trade Adjustment Assistance (TAA) under petition TA-W-41,167 and North American Free Trade Agreement-Transitional Adjustment Assistance (NAFTA-TAA) under NAFTA-5853, applicable to workers and former workers of the subject firm. The denial notices were signed on June 24, 2002, and published in the Federal Register on July 9, 2002 (67 FR 45550 and 45551, respectively).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition filed on behalf of workers at Tri-Way Manufacturing, Inc., El Paso, Texas, engaged in repair and production of injection molding was denied because the “contributed importantly” group eligibility requirement of section 222(3) of the Trade Act of 1974, as amended, was not met. The “contributed importantly” test is generally demonstrated through a survey of the workers firm's customers. The survey revealed no imports of injection molds. There were no company imports of injection molds during the relevant period.

The NAFTA-TAA petition for the same group of workers was denied because criteria (3) and (4) of the group eligibility requirements of paragraph (a)(1) of section 250 of the Trade Act, as amended, were not met. There were no customer or company imports of injection molds from Mexico or Canada, nor did the subject firm shift production from El Paso to Mexico or Canada.

The petitioner requested that the Department of Labor survey an additional major customer of the subject firm regarding their purchases of injection molds.

On further review, the U.S. Department of Labor conducted a survey of an additional customer of the subject firm regarding their purchases of injection molds during the 2000 and 2001 periods. The survey revealed that the customer did not purchase injection molds from the subject firm during the relevant period. In fact, upon further clarification from the customer, it was revealed that Tri-Way Manufacturing, Inc. only repaired injection molds for the customer.

Conclusion

After review of the application and investigative findings, I conclude that there has been no error or misinterpretation of the law or of the facts which would justify reconsideration of the Department of Labor's prior decision. Accordingly, the application is denied.

Signed in Washington, DC, this 31st day of October, 2002.
Edward A. Tomchick,
Director, Division of Trade Adjustment Assistance.

[FR Doc. 02-29695 Filed 11-21-02; 8:45 am]

BILLING CODE 4510-30-P